DEPARTMENT OF HEALTH AND HUMAN SERVICES

[Document Identifier OS-0990-xxxx]

Agency Father Generic Information Collection Request. 60-Day Public Comment Request

AGENCY: Office of the Secretary, HHS.

ACTION: Notice.

SUMMARY: In compliance with the requirement of the Paperwork Reduction Act of 1995, the Office of the Secretary (OS), Department of Health and Human Services, is publishing the following summary of a proposed collection for public comment.

DATES: Comments on the ICR must be received on or before July 18, 2022.

ADDRESSES: Submit your comments to Sherrette.Funn@hhs.gov or by calling (202) 795-7714.

FOR FURTHER INFORMATION CONTACT: When submitting comments or requesting information, please include the document identifier 0990-New-60D, and project title for reference, to Sherrette Funn, the Reports Clearance Officer, Sherrette.funn@hhs.gov, or call 202-795-7714.

SUPPLEMENTARY INFORMATION: Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Title of the Collection: National Strategy for a Resilient Public Health Supply Chain Paper Reduction Act Clearance.

Type of Collection: Father Generic ICR.

OMB No. 0990-XXXX—Assistant Secretary for Preparedness and Response—Office of Strategy, Policy, Planning, and Requirements.

Abstract

The Department of Health and Human Services, HHS, Assistant Secretary for Preparedness and Response, within Office of Strategy, Policy, Planning, and Requirements is seeking approval by OMB on a new Generic clearance. HHS, is working with the White House and across the federal interagency to launch a multiyear implementation involving the identification and coordination of measurable activities across the U.S. government, SLTT (State, Local, Tribal, and Territorial) jurisdictions, and private sector partners. Cross-sectoral engagement is the underpinning of many of the interdependent implementation activities. For example, one such activity involves information collection from SLTT partners on facility, local, and state stockpiling plans to ensure coordinated plans are in place for a future public health emergency. Potential engagements include surveys, stakeholder meetings, RFI's, town hall meetings, and workshops. With each of these different mechanisms of engagement, there is a varied frequency ranging from single engagements to regularly recurring meetings.

In July 2021, the White House published the National Strategy for a Resilient Public Health Supply Chain. The strategy calls out strategic goals and recommendations for building immediate and long-term resilience through increased visibility, agility, and robustness in the public health supply chain to prepare for and mitigate future public health emergencies.

HHS is requesting a 3-year PRA clearance and will engage with SLTT, trade groups, mixed cross-sector audiences, non-governmental organizations, manufacturers, academia, healthcare providers and facilities, and local communities.

Annualized Burden Hour Table
Forms (if necessary) | Respondents (if necessary) | Number of respondents | Number of responses per respondents | Average burden per response | Total burden hours
Stakeholder Meetings | Private Sector, Manufacturers, U.S. Government Supply Chain Inventory Holders | 30 | 6 | 6 | 1080
RFIs | Private Sector, Mixed Cross-Sector Audience, Manufacturers, SLTT partners | 40 | 1 | 40 | 1600
Workshops | Private Sector, SLTT partners, Trade Groups, Manufacturers, Academia, Healthcare Providers/Facilities, Public | 50 | 4 | 8 | 1600
Surveys | Private Sector, SLTT partners, Trade Groups, Manufacturers, Academia | 75 | 1 | 1 | 75
Total |  |  | 12 |  | 4355

Sherrette A. Funn,
Paperwork Reduction Act Reports Clearance Officer, Office of the Secretary.

[FR Doc. 2022-10700 Filed 5-17-22; 8:45 am]

BILLING CODE 4150-37-P